DEPARTMENT OF THE INTERIOR

Fish and Wildlife Service

Construction of a Residential Community in Lake County, FL

AGENCY: Fish and Wildlife Service, Interior.

ACTION: Notice: Receipt of application for an incidental take permit; request for comments.

SUMMARY: We, the Fish and Wildlife Service (Service), announce the availability of an Incidental Take Permit (ITP) Application and Habitat Conservation Plan (HCP). Founders Ridge, LLC (applicant) requests an ITP for a duration of 10 years under the Endangered Species Act of 1973, as amended (Act). The applicant anticipates taking a total of approximately 32.18 acres of Florida scrub-jay (Alphelocoma coerulescens)—occupied habitat and approximately 1.85 acres of sand skink (Neoseps reynoldsi)—occupied habitat incidental to the construction of a residential development consisting of 963 units and associated amenities, in Lake County, Florida (project). The applicant's HCP describes the mitigation and minimization measures the applicant proposes to address the effects of the project to the Florida scrub-jay and sand skink.

DATES: We must receive any written comments on the ITP application and HCP on or before November 16, 2007.

ADDRESSES: If you wish to review the application and HCP, you may write the Field Supervisor at our Jacksonville Field Office, 6620 Southpoint Drive South, Suite 310, Jacksonville, FL 32216, or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904/232-2580, ext. 126.

SUPPLEMENTARY INFORMATION:

Public Availability of Comments

Before including your address, phone number, e-mail address, or other personal identifying information in your comment, you should be aware that your entire comment including your personal identifying information may be made publicly available at any time. While you can ask us in your comment to withhold your personal identifying information from public review, we cannot guarantee that we will be able to do so.

Please reference permit number TE137074-0 for Founders Ridge, LLC in all requests or comments. Please include your name and return address in your e-mail message. If you do not receive a confirmation from us that we have received your e-mail message, contact us directly at the telephone number listed under FOR FURTHER INFORMATION CONTACT.

Background

Florida Scrub-Jay

The Florida scrub-jay (scrub-jay) is found exclusively in peninsular Florida and is restricted to xeric upland communities (predominately in oak-dominated scrub with open canopies) of the interior and Atlantic coast sand ridges. Increasing urban and agricultural development has resulted in habitat loss and fragmentation, which have adversely affected the distribution and numbers of scrub-jays. Remaining habitat is largely degraded due to the exclusion of fire, which is needed to maintain xeric uplands in conditions suitable for scrub-jays. The total estimated population is between 7,000 and 11,000 individuals.

Sand Skink

The sand skink is a small fossorial lizard that occurs on the sandy ridges of interior central Florida from Marion County south to Highlands County. Biological information regarding the sand skink is limited due to the secretive nature of the species. Based on the reduction in quality and acreage and the rapid development of xeric upland communities, the sand skink appears to be declining throughout most of its range. By some estimates, as much as 90 percent of the scrub ecosystem has been lost to residential development and conversion to agriculture, primarily citrus groves.

Applicant's Proposal

The applicant is requesting take of approximately 32.18 acres of occupied Florida scrub-jay habitat and 1.85 acres of occupied sand skink habitat incidental to the construction of a residential community in Lake County, Florida (Parcel # 05-22-26-000200001200 and Parcel # 06-22-26-0001-00009000). The project encompasses about 335.4 acres and currently includes 723 single-family units and 240 multi-family townhomes, a 40-acre community park, various recreational facilities, infrastructure and landscaping. The applicant proposes to mitigate for the take of the Florida scrub-jay at a ratio of 2:1 based on Service Mitigation Guidelines. The applicant will contribute a total of $427,242.00 to the USDA Forest Service to be utilized for scrub-jay conservation pursuant to an MOU between the Service and the Forest Service. Furthermore, to mitigate for impacts to the sand skink, the applicant has proposed to restore, manage and preserve a 4.50-acre area of occupied habitat within the boundaries of the project site. As minimization for impacts to the species, clearing activities during project construction will occur outside the scrub-jay nesting season (March 1-July 15) and the sand skink breeding season (March 1-May 15) to reduce the potential for mortality.

We have determined that the applicant's proposal, including the proposed mitigation and minimization measures, would have minor or negligible effects on the species covered in the HCP. Therefore, the ITP is a “low-effect” project and qualifies for categorical exclusions under the National Environmental Policy Act (NEPA), as provided by the Department of the Interior Manual (516 DM 2 Appendix 1 and 516 DM 6 Appendix 1). This preliminary information may be revised based on our review of public comments that we receive in response to this notice. A low-effect HCP is one involving (1) minor or negligible effects on federally listed or candidate species and their habitats, and (2) minor or negligible effects on other environmental values or resources.

We will evaluate the HCP and comments submitted thereon to determine whether the application meets the requirements of section 10(a) of the Act (16 U.S.C. 1531 et seq.). If we determine that the application meets those requirements, we will issue the ITP for incidental take of the scrub-jay and the sand skink. We will also evaluate whether issuance of the section 10(a)(1)(B) ITP complies with section 7 of the Act by conducting an intra-Service section 7 consultation. We will use the results of this consultation, in combination with the above findings, in the final analysis to determine whether or not to issue the ITP.

Authority: We provide this notice under Section 10 of the Act and NEPA regulations (40 CFR 1506.6).

Dated: October 9, 2007.
David L. Hankla,
Field Supervisor, Jacksonville Field Office.

[FR Doc. E7-20479 Filed 10-16-07; 8:45 am]

BILLING CODE 4310-55-P